CORPORATION FOR NATIONAL AND COMMUNITY SERVICE

Information Collection; Submission for OMB Emergency Review; Comment Request

AGENCY: Corporation for National and Community Service.

ACTION: Notice.

SUMMARY: The Corporation for National and Community Service (hereinafter the “Corporation”), has submitted the following information collection request (ICR) to the Office of Management and Budget (OMB) for review and clearance in accordance with the Paperwork Reduction Act of 1995, (PRA 95) (44 U.S.C. Chapter 35). The Corporation has requested OMB to review and approve its emergency request for a period of six months. A copy of this ICR, with applicable supporting documentation, may be obtained by contacting the Corporation for National and Community Service, Disaster Response Team, Mr. Mikel Herrington, (202) 606-6706 or by e-mail at mherrington@cns.gov. Individuals who use a telecommunications device for the deaf (TTY-TDD) may call (202) 565-2799 between 8:30 a.m. and 5:00 p.m. eastern time, Monday through Friday.

DATES: Written comments must be submitted to the individuals and offices listed in the ADDRESSES section by December 2, 2005.

ADDRESSES: Comments may be submitted, identified by the title of the information collection activity, to (1) Corporation for National and Community Service, and (2) the Office of Information and Regulatory Affairs. Please send comments to:

(1) Corporation for National and Community Service, Attn: Mikel Herrington, Disaster Response Team Leader:

(a) By fax to: (202) 565-2791, Attention: Mikel Herrington, Disaster Response Team Leader; and

(b) Electronically by e-mail to: mherrington@cns.gov; and,

(2) Office of Information and Regulatory Affairs, Attn: Ms. Katherine Astrich, OMB Desk Officer for the Corporation for National and Community Service, by any of the following two:

(a) By fax to: (202) 395-6974, Attention: Ms. Katherine Astrich, OMB Desk Officer for the Corporation for National and Community Service; and

(b) Electronically by e-mail to: Katherine_T._Astrich@omb.eop.gov.

SUPPLEMENTARY INFORMATION: The OMB is particularly interested in comments which:

• Evaluate whether the proposed collection of information is necessary for the proper performance of the functions of the Corporation, including whether the information will have practical utility;

• Evaluate the accuracy of the Corporation's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

Type of Review: Emergency request.

Agency: Corporation for National and Community Service.

Title: Disaster Response Data Collection Instrument.

OMB Number: None.

Agency Number: None.

Affected Public: Corporation for National and Community Service funded programs and general public.

Total Respondents: 14,642.

Frequency: Disaster relief database, every 2 weeks; the Volunteer Availability Form, once a year.

Average Time Per Response: 30 minutes.

Estimated Total Burden Hours: 197,667 per year.

Total Burden Cost (capital/startup): None.

Total Burden Cost (operating/maintenance): None.

Comments

The Corporation has implemented this data collection system to organize and manage information related to disaster recovery program activities as they occur in the field. All Corporation-supported programs that assist with disaster response/recovery are asked to report up-to-date information. The role of the database is to gather and subsequently disseminate disaster recovery program activities from all CNCS programs as soon as the activities occur. Due to recent major hurricane activity in the southern United States, it is essential that the Corporation has this disaster recovery collection instrument in place as soon as possible. Therefore, the Corporation has requested OMB's emergency review and approval by October 31, 2005

Dated: October 19, 2005.
Mikel Herrington,
Disaster Response Team Leader.

[FR Doc. 05-21903 Filed 11-1-05; 8:45 am]

BILLING CODE 6050-$$-P